DEPARTMENT OF ENERGY

Federal Energy Regulatory Commission

[Docket No. RP04-60-000]

Handeleur Pipe Line Company; Notice of Tariff Filing

November 21, 2003.

Take notice that on November 19, 2003, Chandeleur Pipe Line Company (Chandeleur) tendered for filing, as part of its FERC GasTariff, Second Revised Volume No. 1, First Revised Sheet No. 58A, with a proposed effective date of December 1, 2003.

Chandeleur asserts that the purpose of this filing is to update Chandeleur's tariff with respect to changes of its affiliated marketing entity.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00399 Filed 11-28-03; 8:45 am]

BILLING CODE 6717-01-P